DEPARTMENT OF TRANSPORTATION

Federal Railroad Administration

[Docket Number FRA-2018-0003]

Petition for Waiver of Compliance

Under Part 211 of Title 49 Code of Federal Regulations (CFR), this provides the public notice that on December 26, 2017, Caltrain petitioned the Federal Railroad Administration (FRA) for a waiver of compliance from certain provisions of the Federal railroad safety regulations contained at 49 CFR part 238. FRA assigned the petition Docket Number FRA-2018-0003.

Specifically, Caltrain seeks a waiver of compliance from portions of 49 CFR 238.113(a)(3), Emergency window exits, and 238.114(a)(3), Rescue access windows, for four cars of their new six-car Electric Multiple Unit (EMU) trainsets. The six-car trainsets consist of two cab cars (A and B) and four coach cars (C, D, E, and F). Each is a multi-level car and contains three types of levels: A lower level, two intermediate levels (on each end), and an upper level. In addition, each car contains both intermediate level doors and lower level doors. However, Caltrain will initially be utilizing only the lower level doors to serve their existing 8-inch platforms. The intermediate level doors will be utilized at some point in the future at high level platforms. Until such time that the intermediate doors are placed in service, passenger flip-up type seats mounted to the floor will be placed adjacent (in front of) to these doors.

Since the intermediate levels will be used for passenger seating, each intermediate level is required to have a minimum of two emergency window exits and a minimum of two rescue access windows. Two cars (D and F) are equipped with two windows (one on each side) on the intermediate level that serve as dual-function emergency exit and rescue access windows. The remaining four cars (A, B, C, and E) do not have windows on the intermediate levels due to propulsion equipment occupying space on that level. However, all cars in the EMU trainset are designed with exterior side doors on the intermediate levels (one per side per intermediate level). These doors will be locked and non-operational, and equipped with emergency release handles to allow for manual opening of the doors for emergency egress and rescue access through the doorway.

Caltrain states that the intermediate level door arrangement will meet the requirements of 49 CFR 231.112, Door emergency egress and rescue access systems. In addition, emergency exit paths exist by way of the stairs at the intermediate level, which can lead passengers to either the lower level where there are additional doors and emergency exit/access windows, or the upper levels where there are also additional emergency exit/access windows. Lastly, there is an aisle way that leads to the adjacent car that can be used for egress (with exception of the cab car, cab end). Because the intermediate levels are equipped with these features, Caltrain believes that the intent of the emergency egress/access requirements of 49 CFR 238.113 and 238.114 are met and provide an equivalent level of safety to passengers.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by March 15, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety Chief Safety Officer.

[FR Doc. 2018-01582 Filed 1-26-18; 8:45 am]

BILLING CODE 4910-06-P